SMALL BUSINESS ADMINISTRATION

Data Collection Available for Public Comments

ACTION: 60-Day notice and request for comments.

SUMMARY: The Small Business Administration (SBA) intends to request approval from the Office of Management and Budget (OMB) for the collection of information described below. The Paperwork Reduction Act (PRA) requires Federal agencies to publish a notice in the Federal Register concerning each proposed collection of information before submission to OMB, and to allow 60 days for public comment in response to the notice. This notice complies with that requirement.

DATES: Submit comments on or before January 19, 2021.

ADDRESSES: Send all comments to Adrienne D. Grierson, Deputy Director for Portfolio Management and Quality Control, Small Business Administration, 409 3rd Street, 6th Floor, Washington, DC 20416.

FOR FURTHER INFORMATION CONTACT: Adrienne D. Grierson, Deputy Director for Portfolio Management and Quality Control, Adrienne.grierson@sba.gov, 202-205-6573, or Curtis B. Rich, Management Analyst, 202-205-7030, curtis.rich@sba.gov.

SUPPLEMENTARY INFORMATION: The objective of the debt collection activities is to obtain immediate repayment or arrive at a satisfactory arrangement for future repayment of debts owed to the Government. SBA uses the financial information provided by the debtor on Form 770 in making a determination regarding the compromise of such debts and other liquidation proceedings including litigation by the Agency and/or the Department of Justice.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

Collection: 3245-0012

(1) Title: Financial Statement of Debtor.

Description of Respondents: SBA Lenders.

Form Number: SBA Form 770.

Total Estimated Annual Responses: 5,000.

Total Estimated Annual Hour Burden: 5,000.

Curtis Rich,
Management Analyst.

[FR Doc. 2020-25313 Filed 11-16-20; 8:45 am]

BILLING CODE 8026-03-P